DEPARTMENT OF ENERGY

Federal Energy Regulatory Commission

Notice of Application To Amend Project Boundary and Soliciting Comments, Motions To Intervene, and Protests

May 20, 2004.

Take notice that the following application has been filed with the Commission and is available for public inspection:

a. Application Type: Amendment to remove project lands from the project boundary.

b. Project No.: 1490-035.

c. Date Filed: March 24, 2004.

d. Applicant: Brazos River Authority.

e. Name of Project: Morris Sheppard Hydroelectric Project.

f. Location: The project is located on the Possum Kingdom Reservoir on the Brazos River in Palo Pinto County, Texas. This project does not occupy any Federal or tribal lands.

g. Filed Pursuant to: Federal Power Act, 16 U.S.C. 791(a), 825(r), 799 and 801.

h. Applicant Contact: Mr. Phillip J. Ford, General Manager/CEO, Brazos River Authority, 4600 Cobbs Drive, P.O. Box 7555, Waco, TX 76714-7555, (254) 761-3100.

i. FERC Contact: Any questions on this notice should be addressed to Patricia W. Gillis at (202) 502-8735, or e-mail address: patricia.gillis@ferc.gov.

j. Deadline for Filing Comments and or Motions: June 21, 2004.

All documents (original and eight copies) should be filed with: Ms. Magalie R. Salas, Secretary, Federal Energy Regulatory Commission, 888 First Street, NE., Washington, DC 20426. Please include the project number (P-1490-035) on any comments or motions filed. Comments, protests, and interventions may be filed electronically via the Internet in lieu of paper. See 18 CFR 385.2001(a)(1)(iii) and the instructions on the Commission's Web site under the “e-Filing” link. The Commission strongly encourages e-filings.

k. Description of Request: Brazos River Authority (Authority) is seeking Commission authorization to sell and remove from the project boundary, approximately 33 acres of project lands (located in the middle portion of Possum Kingdom Reservoir approximately 18 river miles upstream from the Morris Sheppard Dam). These lands are part of one of the 28 recreational areas approved as part of the Authority's Recreation Plan in 1991 (59 FERC ¶ 62,162). The Authority would retain a 75-foot buffer strip at the site within the project boundary for public access. The removed lands would be sold to a private developer for condominium construction.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Linda Mitry,
Acting Secretary.

[FR Doc. E4-1220 Filed 5-26-04; 8:45 am]

BILLING CODE 6717-01-P